DEPARTMENT OF ENERGY

Federal Energy Regulatory Commission

[Docket No. RP99-485-002]

Enbridge Pipelines (KPC); Notice of Compliance Filing

October 16, 2002.

Take notice that on October 10, 2002, Enbridge Pipelines (KPC) (Enbridge KPC) tendered for filing as part of its FERC Gas Tariff, First Revised Volume No. 1, the following tariff sheets, with an effective date of November 10, 2002:

Second Revised Sheet No.

15 First Revised Sheet No. 16A

First Revised Sheet No. 17

Second Revised Sheet No. 21

First Revised Sheet No. 23

Second Revised Sheet No. 26

Second Revised Sheet No. 28

Second Revised Sheet No. 30

Enbridge KPC states that the filing is being made to comply with the Commission's September 10, 2002 “Order on Initial Decision” in Docket No. RP99-485-000. Enbridge KPC states that its compliance filing is consistent with the Commission's September 10, 2002 order.

Enbridge KPC states that a copy of this filing has been served upon each person designated on the official service list compiled by the Secretary in this proceeding, as well as all customers and interested state commissions.

Any person desiring to protest said filing should file a protest with the Federal Energy Regulatory Commission, 888 First Street, NE, Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26960 Filed 10-22-02; 8:45 am]

BILLING CODE 6717-01-P